INTERNATIONAL TRADE COMMISSION

[Investigation No. 731-TA-922 (Final)]

Automotive Replacement Glass Windshields From China

Determination

On the basis of the record ¹ developed in the subject investigation, the United States International Trade Commission determines,² pursuant to section 735(b) of the Tariff Act of 1930 (19 U.S.C. 1673d(b)) (the Act), that an industry in the United States is materially injured by reason of imports of automotive replacement glass windshields from China, provided for in subheading 7007.21.10 of the Harmonized Tariff Schedule of the United States, that have been found by the Department of Commerce to be sold in the United States at less than fair value (LTFV). The Commission further determines that critical circumstances do not exist with regard to those imports of the subject merchandise from China that were subject to the affirmative critical circumstances determination by the Department of Commerce.

¹ The record is defined in sec. 207.2(f) of the Commission's Rules of Practice and Procedure (19 CFR 207.2(f)).

² Vice Chairman Deanna Tanner Okun and Commissioner Jennifer A. Hillman dissenting.

Background

The Commission instituted this investigation on March 20, 2001, following receipt of a petition filed with the Commission and the Department of Commerce by PPG Industries, Inc., Pittsburgh, PA; Safelite Glass Corp., Columbus, OH; and Apogee Enterprises, Inc., Minneapolis, MN. The final phase of the investigation was scheduled by the Commission following notification of a preliminary determination by the Department of Commerce that imports of automotive replacement glass windshields from China were being sold at LTFV within the meaning of section 733(b) of the Act (19 U.S.C. 1673b(b)). Notice of the scheduling of the Commission's investigation and of a public hearing to be held in connection therewith was given by posting copies of the notice in the Office of the Secretary, U.S. International Trade Commission, Washington, DC, and by publishing the notice in the Federal Register of October 23, 2001 (66 FR 53630). The hearing was held in Washington, DC on February 5, 2002, and all persons who requested the opportunity were permitted to appear in person or by counsel.

The Commission transmitted its determination in this investigation to the Secretary of Commerce on March 28, 2002. The views of the Commission are contained in USITC Publication 3494 (March 2002), entitled Automotive Replacement Glass Windshields from China: Investigation No. 731-TA-922 (Final).

By order of the Commission.
Issued: March 26, 2002.
Marilyn R. Abbott,
Secretary.

[FR Doc. 02-7908 Filed 4-1-02; 8:45 am]

BILLING CODE 7020-02-P